DEPARTMENT OF TRANSPORTATION

Federal Aviation Administration

14 CFR Part 39

[Docket No. 2001-NM-154-AD]

RIN 2120-AA64

Airworthiness Directives; Airbus Model A300 B2, A300 B4, A300 B4-600, A300 B4-600R, A300 F4-600R, A310, A330, and A340 Series Airplanes

AGENCY: Federal Aviation Administration, DOT.

ACTION: Supplemental notice of proposed rulemaking; reopening of comment period.

SUMMARY: This document revises an earlier proposed airworthiness directive (AD), applicable to certain Airbus airplanes, that would have required repetitive inspections for foreign objects between the slider and the girt bar attachment fittings of the emergency escape slides; a one-time inspection for correct adjustment of the slide release mechanism and the girt bar attachment fittings, which would terminate the repetitive inspections; a one-time test for correct extension of the girt bar through the sliders; and corrective action, if necessary. This new action adds airplanes to the proposed applicability. The actions specified by this new proposed AD are intended to prevent failure of an emergency escape slide, which could result in a delayed evacuation in an emergency and consequent injury to passengers or crew. This action is intended to address the identified unsafe condition.

DATES: Comments must be received by January 28, 2003.

ADDRESSES: Submit comments in triplicate to the Federal Aviation Administration (FAA), Transport Airplane Directorate, ANM-114, Attention: Rules Docket No. 2001-NM-154-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-154-AD” in the subject line and need not be submitted in triplicate. Comments sent via the Internet as attached electronic files must be formatted in Microsoft Word 97 for Windows or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-154-AD.” The postcard will be date stamped and returned to the commenter.

Availability of NPRMs

Any person may obtain a copy of this NPRM by submitting a request to the FAA, Transport Airplane Directorate, ANM-114, Attention: Rules Docket No. 2001-NM-154-AD, 1601 Lind Avenue, SW., Renton, Washington 98055-4056.

Discussion

A proposal to amend part 39 of the Federal Aviation Regulations (14 CFR part 39) to add an airworthiness directive (AD), applicable to certain Airbus Model A330 and A340 series airplanes, was published as a notice of proposed rulemaking (NPRM) in the Federal Register on October 12, 2001 (66 FR 52066). That NPRM would have required repetitive inspections for foreign objects between the slider and the girt bar attachment fittings of the emergency escape slides; a one-time inspection for correct adjustment of the slide release mechanism and the girt bar attachment fittings, which would terminate the repetitive inspections; a one-time test for correct extension of the girt bar through the sliders; and corrective action, if necessary. The original NPRM was prompted by a report indicating that, during escape slide deployment tests on a Model A330 series airplane, the girt bar of the emergency escape slide became detached from the airplane when the escape slide was deployed. That condition, if not corrected, could result in failure of an emergency escape slide, which could result in a delayed evacuation in an emergency and consequent injury to passengers or crew.

Actions Since Issuance of Previous Proposal

Since the issuance of that NPRM, operators have reported difficulty with certain inspection procedures described in the service bulletins. Problems encountered in measuring the gap between the sliders and the girt bar in some cases resulted in asymmetrical adjustment of the girt bar assembly. The manufacturer has since revised the service bulletins to improve the rigging procedures.

In addition, the Direction Générale de l'Aviation Civile (DGAC), which is the airworthiness authority for France, has advised that the identified unsafe condition may apply to additional airplanes. Airbus Model A300, A300-600, and A310 series airplanes are equipped with the same escape slide installation as that on Model A330 and A340 series airplanes.

Explanation of Relevant Service Information

The original NPRM cited Airbus Service Bulletins A330-52-3064 and A340-52-4076, both dated April 4, 2001, as the appropriate sources of service information for the proposed actions. Since the original NPRM was issued, Airbus issued Revision 01 of each service bulletin on June 12, 2002, to revise certain inspection procedures and add airplanes to the effectivity. The remaining procedures are essentially unchanged.

Airbus has also issued Service Bulletins A300-52-0174, A310-52-2066, and A300-52-6062, all Revision 01, all dated August 23, 2002, which describe essentially the same procedures as those described in revised Service Bulletins A330-52-3064 and A340-52-4076.

Accomplishment of the actions specified in the revised service bulletins is intended to adequately address the identified unsafe condition. The DGAC classified these service bulletins as mandatory. To ensure the continued airworthiness of these airplanes in France, the DGAC issued French airworthiness directives 2002-296(B) and 2002-297(B), both dated June 12, 2002; and 2002-525(B), dated October 16, 2002.

Changes to Original NPRM

Based on the DGAC's findings, the FAA has determined that it is necessary to revise the applicability of the original NPRM to add certain Model A300, A300-600, and A310 series airplanes.

For clarification, the FAA has also revised the definition of a “general visual inspection” (Note 2) in this supplemental NPRM.

Conclusion

Since these changes expand the scope of the originally proposed rule, the FAA has determined that it is necessary to reopen the comment period to provide additional opportunity for public comment.

Cost Impact

The FAA estimates that 103 airplanes of U.S. registry would be affected by this proposed AD.

It would take approximately 2 work hours per airplane to inspect for foreign objects between the slider and the girt bar attachment fittings, at an average labor rate of $60 per work hour. Based on these figures, the cost impact of this inspection on U.S. operators is estimated to be $12,360, or $120 per airplane, per inspection cycle.

It would take approximately 4 work hours per airplane to determine whether the slide mechanism and girt bar attachment fittings are adjusted correctly, at an average labor rate of $60 per work hour. Based on these figures, the cost impact of this inspection on U.S. operators is estimated to be $24,720, or $240 per airplane.

It would take approximately 4 work hours per airplane to determine whether the girt bar extends through the sliders correctly, at an average labor rate of $60 per work hour. Based on these figures, the cost impact of this inspection on U.S. operators is estimated to be $24,720, or $240 per airplane.

The cost impact figures discussed above are based on assumptions that no operator has yet accomplished any of the proposed requirements of this AD action, and that no operator would accomplish those actions in the future if the AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus: Docket 2001-NM-154-AD.

Applicability: The following airplanes, certificated in any category:

Table 1.—Applicability
Model | Listed in Airbus Service Bulletin
A300 B2 and A300 B4 series airplanes | A300-52-0174, Revision 01, dated August 23, 2002.
A300 B4-600, A300 B4-600R, and A300 F4-600R series airplanes | A300-52-6062, Revision 01, dated August 23, 2002.
A310 series airplanes | A310-52-2066, Revision 01, dated August 23, 2002.
A330 series airplanes | A330-52-3064, Revision 01, dated June 12, 2002.
A340 series airplanes | A340-52-4076, Revision 01, dated June 12, 2002.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent failure of the emergency escape slide, which could delay evacuation in an emergency and result in injury to passengers or crew, accomplish the following:

Repetitive Inspections for Foreign Objects

(a) At the applicable time specified in paragraph (a)(1) or (a)(2) of this AD: Perform a general visual inspection for foreign objects between the slider and the girt bar attachment fittings of the emergency escape slides according to the applicable service bulletin listed in Table 2 of this AD. Repeat the inspection at least every 7 days until the actions required by paragraph (b) of this AD are done. If any foreign object is found during any inspection required by paragraph (a) of this AD: Before further flight, remove the object and ensure that the girt bar attachment fittings are clean, according to the applicable service bulletin. Table 2 follows:

Table 2.—Service Bulletin References for Required Actions
For model | Do the actions in accordance with Airbus Service Bulletin
A300 B2 and A300 B4 series airplanes | A300-52-0174, Revision 01, dated August 23, 2002.
A300 B4-600, A300 B4-600R, and A300 F4-600R series airplanes | A300-52-6062, Revision 01, dated August 23, 2002.
A310 series airplanes | A310-52-2066, Revision 01, dated August 23, 2002.
A330 series airplanes | A330-52-3064, Revision 01, dated June 12, 2002.
A340 series airplanes | A340-52-4076, Revision 01, dated June 12, 2002.

(1) For Model A330 and A340 series airplanes: Inspect within 7 days after the effective date of this AD.

(2) For Model A300, A300-600, and A310 series airplanes: Inspect within 550 flight hours after the effective date of this AD.

Note 2: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removing or opening access panels or doors. Stands, ladders, or platforms may be required to gain proximity to the area being checked.”

One-Time Inspection of Slide Release Mechanism and Girt Bar Attachment Fittings

(b) Within 18 months after the effective date of this AD, perform a one-time general visual inspection for correct adjustment of the emergency escape slide release mechanism and the girt bar attachment fittings according to the service bulletin listed in Table 2 of this AD, as applicable. If the slide mechanism or girt bar attachment fittings are not adjusted correctly: Before further flight, adjust them according to the applicable service bulletin. Accomplishment of this inspection and any required corrective actions terminates the repetitive inspections required by paragraph (a) of this AD.

One-Time Inspection of Girt Bar Attachment Fittings

(c) Within 18 months after the effective date of this AD, perform a one-time general visual inspection for correct extension of the emergency escape slide girt bar through the sliders, according to the service bulletin listed in Table 2 of this AD, as applicable. If the girt bar does not extend correctly: Before further flight, rework the girt bar or replace the girt bar assembly with a new assembly, according to the applicable service bulletin.

Alternative Methods of Compliance

(d) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(e) Special flight permits may be issued in accordance with §§ 21.197 and 21.199 of the Federal Aviation Regulations (14 CFR 21.197 and 21.199) to operate the airplane to a location where the requirements of this AD can be accomplished.

Note 4: The subject of this AD is addressed in French airworthiness directives 2002-296(B) and 2002-297(B), both dated June 12, 2002; and 2002-525(B), dated October 16, 2002.

Issued in Renton, Washington, on December 24, 2002.
Vi L. Lipski,
Manager, Transport Airplane Directorate, Aircraft Certification Service.

[FR Doc. 03-22 Filed 1-2-03; 8:45 am]

BILLING CODE 4910-13-P